DEPARTMENT OF TRANSPORTATION

Federal Highway Administration

Notice of Final Federal Agency Actions on a Proposed Highway Project in Wisconsin

AGENCY: Federal Highway Administration (FHWA), U.S. Department of Transportation (DOT).

ACTION: Notice of Limitation on Claims for Judicial Review of Actions by FHWA.

SUMMARY: This notice announces actions taken by the FHWA that are final. The actions required by applicable Federal environmental laws relate to a proposed highway project, the WIS 23 Corridor Project, in Fond du Lac and Sheboygan Counties, Wisconsin. Those actions grant approvals for the project.

DATES: By this notice, the FHWA is advising the public of final agency actions subject to 23 U.S.C. 139(l)(1). A claim seeking judicial review of the Federal agency actions on the proposed highway project will be barred unless the claim is filed on or before March 25, 2019. If the Federal law that authorizes judicial review of a claim provides a time period of less than 150 days for filing such claim, then that shorter time period still applies.

FOR FURTHER INFORMATION CONTACT: For FHWA: Michael Davies, Division Administrator, FHWA, 525 Junction Road, Suite 8000, Madison, Wisconsin 53717; telephone: (608) 829-7500. The FHWA Wisconsin Division's normal office hours are 7 a.m. to 4 p.m. central time. For the Wisconsin Department of Transportation (WisDOT): Scott Lawry, Director, Bureau of Technical Services, Wisconsin Department of Transportation, 4822 Madison Yards Way, 5th Floor, Madison, Wisconsin 53705; telephone: (608) 266-2186. WisDOT's normal office hours are 7:30 a.m. to 4:30 p.m. central time.

SUPPLEMENTARY INFORMATION: Notice is hereby given that FHWA has taken final agency actions subject to 23 U.S.C. 139(l)(1) by issuing approvals for the following highway project: The WIS 23 Corridor Project in Fond du Lac and Sheboygan Counties, Wisconsin. The purpose of the project is to provide additional highway capacity (i.e. to provide appropriate and effective level of service) to serve existing and projected traffic volumes, and improve operational efficiency and safety for local and through traffic while avoiding or minimizing environmental effects. The project will reconstruct WIS 23 over approximately 19 miles from US 151 to County Highway P. Within those limits, the project will widen the existing two-lane roadway to a four-lane divided highway with a median from Whispering Springs Drive to County Highway P. Project-specific actions include acquiring right-of-way, constructing two diamond interchanges and one jug-handle intersection, constructing roundabouts, constructing new travel lanes and frontage roads, modifying local roads and intersections, improving and extending multi-use trails, installing new bridges and culverts, removing and placing fill, removing vegetation, providing storm water management measures, implementing corridor preservation measures, and implementing mitigation measures.

The actions by FHWA on this project, and the laws under which such actions were taken, are described in the combined Record of Decision (ROD) and Limited Scope Supplemental Final Environmental Impact Statement (LS SFEIS) approved on October 15, 2018, and in other documents in the FHWA project file. The 2018 combined ROD and LS SFEIS incorporates analysis and decisions made in the following previous environmental documents prepared and approved for this project: The 2014 combined ROD and LS SFEIS and the 2010 ROD and Final Environmental Impact Statement. The 2018 combined ROD and LS SFEIS supersedes the previous environmental documents and decisions for this project where it addresses issues identified as part of the 2018 LS SFEIS pursuant to 23 CFR 771.130. The 2018 combined ROD and LS SFEIS were prepared as a single document pursuant to 23 U.S.C. 139(n)(2).

The 2018 combined ROD and LS SFEIS and other documents related to project approvals are available by contacting FHWA and WisDOT at the addresses provided above. The 2018 combined ROD and LS SFEIS can be viewed and downloaded from the project website at https://wisconsindot.gov/Pages/projects/by-region/ne/wis23exp/default.aspx or viewed at the Fond du Lac or Plymouth public libraries.

This notice applies to all Federal agency decisions as of the issuance date of this notice, and all laws under which such actions were taken, including but not limited to:

1. General: National Environmental Policy Act (NEPA) [42 U.S.C. 4321- 4351]; Federal-Aid Highway Act [23 U.S.C. 109, 23 U.S.C. 128, and 23 U.S.C. 139].

2. Air: Clean Air Act [42 U.S.C. 7401- 7671(q)].

3. Land: Section 6(f) of the Land and Water Conservation Fund Act of 1965 [16 U.S.C. 4601]; Section 4(f) of the Department of Transportation Act of 1966 [49 U.S.C. 303].

4. Wildlife: Endangered Species Act [16 U.S.C. 1531-1544 and Section 1536]; Fish and Wildlife Coordination Act [16 U.S.C. 661-667(d)]; Migratory Bird Treaty Act [16 U.S.C. 703-712].

5. Historic and Cultural Resources: Section 106 of the National Historic Preservation Act of 1966 [54 U.S.C. 306108].

6. Social and Economic: Civil Rights Act of 1964 [42 U.S.C. 2000(d)-2000(d)(1)], Uniform Relocation Assistance and Real Property Acquisition Act of 1970 [42 U.S.C. 61].

7. Wetlands and Water Resources: Clean Water Act [33 U.S.C. 1251-1376].

8. Hazardous Materials: Comprehensive Environmental Response, Compensation, and Liability Act [42 U.S.C. 9601-9675].

9. Executive Orders: E.O. 11514 Protection and Enhancement of Environmental Quality; E.O. 11988 Floodplain Management; E.O. 11990 Protection of Wetlands; E.O. 12898 Federal Actions to Address Environmental Justice in Minority Populations and Low-Income Populations; E.O. 13112 Invasive Species; E.O. 13175 Consultation and Coordination with Indian Tribal Governments; E.O. 13186 Responsibilities of Federal Agencies to Protect Migratory Birds.

(Catalog of Federal Domestic Assistance Program Number 20.205, Highway Planning and Construction. The regulations implementing Executive Order 12372 regarding intergovernmental consultation on Federal programs and activities apply to this program.)

Authority: 23 U.S.C. 139(l)(1).

Issued on: October 17, 2018.
Michael Davies,
Division Administrator, FHWA Wisconsin Division, Madison, Wisconsin.

[FR Doc. 2018-23339 Filed 10-25-18; 8:45 am]

BILLING CODE 4910-RY-P